NATIONAL CREDIT UNION ADMINISTRATION

Agency Sunshine Act Meeting

TIME AND DATE: 10 a.m., Wednesday, November 16, 2011.

PLACE: Board Room, 7th Floor, Room 7047, 1775 Duke Street, Alexandria, VA 22314-3428.

STATUS: Closed.

MATTERS TO BE CONSIDERED:

1. Member Business Loan Waiver Appeal. Closed pursuant to some or all of the following: exemptions (4) and (8).

2. Consideration of Supervisory Activities (2). Closed pursuant to some or all of the following: exemptions (8), (9)(A)(ii) and 9(B).

FOR FURTHER INFORMATION CONTACT: Mary Rupp, Secretary of the Board, Telephone: (703) 518-6304.

Mary Rupp,
Board Secretary.

[FR Doc. 2011-29490 Filed 11-9-11; 4:15 pm]

BILLING CODE 7535-01-P